DEPARTMENT OF JUSTICE

Notice of Lodging of Consent Decree Under the Clean Water Act

In accordance with Departmental policy, 28 U.S.C. 50.7, notice is hereby given that on March 22, 2000, a proposed Consent Decree in United States v. S.B. Foot Tanning Company, (“Foot”) Civil Action No. 2-99CV-325-J, was lodged with the United States District Court for the Northern District of Texas.

In this action the United States sought injunctive relief and civil penalties for alleged violations of the Clean Water Act (“CWA”) and the discharge prohibitions of the applicable pretreatment standards established pursuant to section 307(b) of the CWA, 33 U.S.C. 1317(b), namely part 425, subpart F, Leather Tanning and Finishing Point Source Category, pretreatment standards at 40 CFR 425.65, at Foot's Cactus, Texas facility. The Consent Decree provides for Foot's payment of a civil penalty to the United States in the amount of $510,439.60, requires injunctive relief to bring Foot into compliance with the Clean Water Act, and requires Foot to implement and complete two Supplemental Environmental Projects (“SEPs”) costing in the aggregate $864,000 in capital costs and $12,500 in annual operations and maintenance costs.

The Department of Justice will receive, for a period of thirty (30) days from the date of this publication, comments relating to the proposed Consent Decree. Comments should be addressed to the Assistant Attorney General for the Environment and Natural Resources Division, P.O. Box 7611, U.S. Department of Justice, Washington, DC 20044-7611, and should refer to United States v. S.B. Foot Tanning Company, DOJ Ref. #90-5-1-1-4497.

The Consent Decree may be examined at the office of the United States Attorney, Northern District of Texas, 500 South Taylor, Suite 300, Lobby Box 238, Amarillo, Texas 79101-2442; the Region VI Office of the Environmental Protection Agency, 1445 Ross Avenue, Dallas, Texas. A copy of the Consent Decree may also be obtained by mail from the Consent Decree Library, P.O. Box &7611, U.S. Department of Justice, Washington, DC 20044-7611. In requesting a copy please refer to the referenced case and enclose a check in the amount of $8.00 (25 cents per page reproduction costs), payable to the Consent Decree Library.

Joel M. Gross,
Chief, Environmental Enforcement Section, Environment and Natural Resources Division.

[FR Doc. 00-9151 Filed 4-12-00; 8:45 am]

BILLING CODE 4410-15-M